GENERAL SERVICES ADMINISTRATION

41 CFR Part 102-77

[FMR Case 2015-102-3; Docket No. 2015-0007; Sequence No. 1]

RIN 3090-AJ60

Federal Management Regulation; Art-in-Architecture

AGENCY: Office of Government-wide Policy (OGP), General Services Administration (GSA).

ACTION: Proposed rule.

SUMMARY: GSA is proposing to amend the Federal Management Regulation (FMR) by revising its coverage of Art-in-Architecture. This proposed rule provides clarification to the policies that support the efforts to collect, manage, fund and commission fine art in Federal buildings.

DATES: Interested parties should submit written comments to the Regulatory Secretariat at one of the addresses shown below on or before September 8, 2015 to be considered in the formation of the final rule.

ADDRESSESS: Submit comments in response to FMR Case 2015-102-3 by any of the following methods:

• Regulations.gov: http://www.regulations.gov. Submit comments via the Federal eRulemaking Portal by searching for “FMR Case 2015-102-3.” Select the link “Comment Now” that corresponds with “FMR Case 2015-102-3.” Follow the instructions provided at the “Comment Now” screen. Please include your name, company name (if any), and “FMR Case 2015-102-3 on your attached document.

• Mail: General Services Administration, Regulatory Secretariat (MVCB), ATTN: Ms. Flowers, 1800 F Street NW., 2nd. Floor, Washington, DC 20405.

Instructions: Please submit comments only and cite FMR Case 2015-102-3, in all correspondence related to this case. All comments received will be posted without change to http://www.regulations.gov, including any personal and/or business confidential information provided.

FOR FURTHER INFORMATION CONTACT: Ms. Aluanda Drain, Office of Government-wide Policy, Office of Asset and Transportation Management (MA), at 202-501-1624, or by email at aluanda.drain@gsa.gov. For information pertaining to status or publication schedules, contact the Regulatory Secretariat, at 202-501-4755. Please cite FMR Case 2015-102-3.

SUPPLEMENTARY INFORMATION:

A. Background

As part of its regular cycle to review and update its real property policies, GSA is proposing to revise its policy on Art-in-Architecture that is located in FMR part 102-77 (41 CFR part 102-77). This part was last revised on November 8, 2005 at 70 FR 67847.

Proposed Changes

The proposed changes to FMR part 102-77 reflect an internal as well as an interagency collaborative effort. Major proposed changes include the following:

Section 102-77.10 recommends the practice of commissioning artwork and also requires that the art be the work of living American artists.

Section 102-77.20 proposes that to the maximum extent possible, agencies should collaborate with representatives of the client agency and with others who are tied to the project to commission the nation's most talented artists.

Section 102-77.25 calls for agencies to implement the Art-in-Architecture policies in a manner that receives national and local visibility to facilitate participation by a large and diverse group of American artists.

B. Executive Orders 12866 and 13563

Executive Orders (E.O.S.) 12866 and 13563 direct agencies to assess all costs and benefits of available regulatory alternatives and, if regulation is necessary, to select regulatory approaches that maximize net benefits (including potential economic, environmental, public health and safety effects, distributive impacts, and equity). E.O. 13563 emphasizes the importance of quantifying both costs and benefits, of reducing costs, of harmonizing rules, and of promoting flexibility. This is not a significant regulatory action, and therefore was not subject to review under Section 6(b) of E.O. 12866, Regulatory Planning and Review, dated September 30, 1993. This rule is not a major rule under 5 U.S.C. 804.

C. Regulatory Flexibility Act

While these revisions are substantive, this proposed rule would not have a significant economic impact on a substantial number of small entities within the meaning of the Regulatory Flexibility Act, 5 U.S.C. 601, et seq. This proposed rule is also exempt from the Administrative Procedure Act per 5 U.S.C. 553 (a)(2) because it applies to agency management or personnel.

D. Paperwork Reduction Act

The Paperwork Reduction Act does not apply because the proposed changes to the FMR do not impose recordkeeping or information collection requirements, or the collection of information from offerors, contractors, or members of the public that require the approval of the Office of Management and Budget under 44 U.S.C. 3501, et seq.

E. Small Business Regulatory Enforcement Fairness Act

This proposed rule is exempt from Congressional review prescribed by 5 U.S.C. 801 since it relates to agency management and personnel.

List of Subjects in 41 CFR Part 102-77

Arts and Crafts.

Dated: May 7, 2015.
Giancarlo Brizzi,
Acting Associate Administrator.

For the reasons set forth in the preamble, GSA proposes to amend 41 CFR part 102-77 as follows:

PART 102-77—ART-IN-ARCHITECTURE

1. The authority continues to read as follows:

Authority: 40 U.S.C. 121 and 3306.

2. Revise § 102-77.10 to read as follows:

§ 102-77.10 What basic Art-in-Architecture policy governs Federal agencies?

Federal agencies must incorporate fine arts as an integral part of the total building concept when designing new Federal buildings, and when making substantial repairs and alterations to existing Federal buildings, as appropriate. The commissioned artworks—including painting, sculpture and various other media—must reflect the national cultural heritage and be the work of living American artists (citizens or permanent residents of the United States).

3. Revise § 102-77.20 to read as follows:

§ 102-77.20 With whom should Federal agencies collaborate when commissioning and selecting art for Federal buildings?

To the maximum extent practicable, Federal agencies should collaborate with representatives of the client agency and the local community, the designer, and arts professionals to commission the nation's most talented artists to create significant civic-scaled artwork of outstanding quality and value. Federal agencies should work collaboratively with the artist, community, and art and design professionals to produce works of art that reflect the cultural, intellectual, and historic interests of the nation and the community. Federal agencies should commission artwork that is diverse in style and media.

4. Revise § 102-77.25 to read as follows:

§ 102-77.25 Do Federal agencies have responsibilities to provide national visibility for Art-in-Architecture?

Yes, Federal agencies should implement these Art-in-Architecture policies in a manner that receives appropriate national and local visibility to facilitate participation by a large and diverse group of American artists representing a wide variety of types of artwork.

[FR Doc. 2015-16902 Filed 7-9-15; 8:45 am]

BILLING CODE 6820-14-P